FEDERAL COMMUNICATIONS COMMISSION

47 CFR Part 54

[WC Docket No. 13-184; FCC 19-117; FRS 17561]

Modernizing the E-Rate Program for Schools and Libraries

AGENCY: Federal Communications Commission.

ACTION: Final rule; announcement of effective date.

SUMMARY: In this document, the Federal Communications Commission (Commission) announces that the Office of Management and Budget (OMB) has approved, for a period of three years, an information collection associated with the rules for the Universal Service Schools and Libraries program contained in the Commission's Modernizing the E-Rate Program for Schools and Libraries Report and Order (Category Two Order), FCC 19-117. This document is consistent with the Category Two Order, which stated that the Commission would publish a document in the Federal Register announcing the effective date of the new information collection requirements.

DATES: The amendments to § 54.502(d) and (e) published at 84 FR 70026, December 20, 2019, are effective April 1, 2021.

FOR FURTHER INFORMATION CONTACT: Kate Dumouchel, Wireline Competition Bureau at (202) 418-7400 or via email: Kate.Dumouchel@fcc.gov. For additional information concerning the Paperwork Reduction Act information collection requirements contact Nicole Ongele at (202) 418-2991 or via email: Nicole.Ongele@fcc.gov.

SUPPLEMENTARY INFORMATION: The Commission made a submission for non-substantive changes to an existing collection for review and approval by OMB, as required by the Paperwork Reduction Act (PRA) of 1995, on March 23, 2021, which were approved by the OMB on March 24, 2021. The information collection requirements are contained in the Commission's Category Two Order, FCC 19-117, published at 84 FR 70026, December 20, 2019. The OMB Control Number is 3060-0806. The Commission publishes this document as an announcement of the effective date of the rules published December 20, 2019. If you have any comments on the burden estimates listed below, or how the Commission can improve the collections and reduce any burdens caused thereby, please contact Nicole Ongele, Federal Communications Commission, 45 L St. NE, Washington, DC 20554. Please include the OMB Control Number, 3060-0806, in your correspondence. We ask that requests for accommodations be made as soon as possible in order to allow the agency to satisfy such requests whenever possible. Send an email to fcc504@fcc.gov or call the Consumer and Governmental Affairs Bureau at (202) 418-0530.

Synopsis

As required by the Paperwork Reduction Act of 1995 (44 U.S.C. 3507), the Commission is notifying the public that it received OMB approval on March 24, 2021, for the information collection requirements contained in 47 CFR 54.502(d) and (e), published at 84 FR 70026, December 20, 2019. Under 5 CFR part 1320, an agency may not conduct or sponsor a collection of information unless it displays a current, valid OMB Control Number.

No person shall be subject to any penalty for failing to comply with a collection of information subject to the Paperwork Reduction Act that does not display a current, valid OMB Control Number. The OMB Control Number is 3060-0806.

The foregoing notice is required by the Paperwork Reduction Act of 1995, Public Law 104-13, October 1, 1995, and 44 U.S.C. 3507.

The total annual reporting burdens and costs for the respondents are as follows:

OMB Control Number: 3060-0806.

OMB Approval Date: March 24, 2021.

OMB Expiration Date: December 31, 2021.

Title: Universal Service—Schools and Libraries Universal Service Program, FCC Forms 470 and 471.

Form No.: FCC Forms 470 and 471.

Respondents: Not-for-profit institutions, and State, Local or Tribal governments.

Number of Respondents and Responses: 43,000 respondents and 67,100 responses.

Estimated Time per Response: 3.5 hours for FCC Form 470 (3 hours for response; 0.5 hours for recordkeeping; 4.5 hours for FCC Form 471 (4 hours for response; 0.5 hours for recordkeeping).

Frequency of Response: Recordkeeping, on occasion and annually reporting requirements.

Obligation to Respond: Required to obtain or retain benefits. Statutory authority for this information collection is contained in sections 47 U.S.C. 151-154, 201-205, 218-220, 254, 303(r), 403 and 405 of the Communications Act of 1934, as amended.

Total Annual Burden: 273,950 hours.

Total Annual Cost: No Cost.

Nature and Extent of Confidentiality: There is no assurance of confidentiality provided to respondents concerning this information collection. However, respondents may request materials or information submitted to the Commission or to the Administrator be withheld from public inspection under 47 CFR 0.459 of the FCC's rules.

Privacy Act Impact Assessment: No impact(s).

Needs and Uses: Collection of the information on FCC Forms 470 and 471 is necessary so that the Commission and USAC have sufficient information to determine if entities are eligible for funding pursuant to the schools and libraries support mechanism, to determine if entities are complying with the Commission's rules, and to prevent waste, fraud, and abuse. In addition, the information is necessary for the Commission to evaluate the extent to which the E-rate program is meeting the statutory objectives specified in section 254(h) of the 1996 Act, and the Commission's performance goals established in the E-rate Modernization Order and Second E-rate Modernization Order.

In December 2019, the Commission adopted the Category Two Order, which modified E-Rate program rules to, among other things: Make permanent the category two budget approach, which provides applicants with a set amount of category two funding for a five-year period; allow applicants to apply for category two funding on a school district-wide or library system-wide basis, rather than an entity-level basis; and decrease the administrative burden on applicants requesting funding for category two services. The Commission sought to modify the FCC Form 471 to implement these changes for funding year 2021, as set forth in the Category Two Order.

The submission was made for proposed non-substantive changes to an existing information collection pursuant to 44 U.S.C. 3507. The submission sought to make non-substantive changes to certain fields, instructions, and the filing process for the FCC Form 471 to implement the changes adopted by the Commission in the Category Two Order, FCC 19-117. The submission also sought to make non-substantive changes to the instructions and process by which applicants fill out the FCC Form 471 to improve the user experience and reduce the administrative burden. There are no proposed changes for the FCC Form 470. The FCC Form 471 is contained in an online database.

Federal Communications Commission.
Marlene Dortch,
Secretary, Office of the Secretary.

[FR Doc. 2021-06566 Filed 3-31-21; 8:45 am]

BILLING CODE 6712-01-P